COMMISSION ON CIVIL RIGHTS

Notice of Public Meeting of the Illinois Advisory Committee to Discuss Approval of a Project Proposal to Study Civil Rights and Environmental Justice in the State

AGENCY: U.S. Commission on Civil Rights.

ACTION: Announcement of meeting.

SUMMARY: Notice is hereby given, pursuant to the provisions of the rules and regulations of the U.S. Commission on Civil Rights (Commission) and the Federal Advisory Committee Act that the Illinois Advisory Committee (Committee) will hold a meeting on Friday, January 22, 2016, at 1:00 p.m. CST. The purpose of this meeting is to review and discuss approval of a project proposal to study civil rights and environmental justice in the State. The Committee met on November 20, 2015 and approved a study of this topic, particularly as it relates to coal ash disposal in communities of color in Illinois. This study is in support of the Commission's nationally focused 2016 statutory enforcement study on the same topic.

This meeting is available to the public through the following toll-free call-in number: 888-481-2844, conference ID: 2949512. Any interested member of the public may call this number and listen to the meeting. An open comment period will be provided to allow members of the public to make a statement at the end of the meeting. The conference call operator will ask callers to identify themselves, the organization they are affiliated with (if any), and an email address prior to placing callers into the conference room. Callers can expect to incur regular charges for calls they initiate over wireless lines, according to their wireless plan, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office within 30 days following the meeting. Written comments may be mailed to the Regional Programs Unit, U.S. Commission on Civil Rights, 55 W. Monroe St., Suite 410, Chicago, IL 60615. They may also be faxed to the Commission at (312) 353-8324, or emailed to Carolyn Allen at callen@usccr.gov. Persons who desire additional information may contact the Regional Programs Unit at (312) 353-8311.

Records and documents discussed during the meeting will be available for public viewing prior to and after the meeting at https://database.faca.gov/committee/meetings.aspx?cid=246. Click on the “Meeting Details” and “Documents” links to download. Records generated from this meeting may also be inspected and reproduced at the Regional Programs Unit, as they become available, both before and after the meeting. Persons interested in the work of this Committee are directed to the Commission's Web site, http://www.usccr.gov, or may contact the Regional Programs Unit at the above email or street address.

Agenda

Welcome and Introductions

Review and Discussion of Civil Rights Project Proposal: Environmental Justice and Coal Ash Disposal in Illinois

Open Comment

Future plans and actions

Adjournment

DATES: The meeting will be held on Friday, January 22, 2016, at 1:00 p.m. CST.

Public Call Information

Dial: 888-481-2844.

Conference ID: 2949512.

FOR FURTHER INFORMATION CONTACT: Melissa Wojnaroski at mwojnaroski@usccr.gov or 312-353-8311.

Dated: December 23, 2015.
David Mussatt,
Chief, Regional Programs Unit.

[FR Doc. 2015-32834 Filed 12-29-15; 8:45 am]

BILLING CODE 6335-01-P